DEPARTMENT OF THE INTERIOR

Bureau of Land Management

[LLNVS00000.L19200000.ET0000.LRORF1708700.241A.XXX MO #4500125063]

Notice of Withdrawal Extension Application, United States Air Force, Public Land Order No. 7419, and Opportunity for Public Meeting; Nevada

AGENCY: Bureau of Land Management, Interior.

ACTION: Notice.

SUMMARY: The Department of the Air Force (DAF), Nellis Air Force Base (AFB) has filed an application with the Department of the Interior to extend the duration of Public Land Order (PLO) No. 7419 for an additional 20-year term for the same military purpose and location. PLO No. 7419 withdrew 2,252 acres of public land from settlement, sale, location, or entry under the general land laws, including the United States mining laws, but not the mineral leasing laws. PLO No. 7419 was issued for the United States Air Force to provide safety buffers from potentially hazardous areas, to protect populated areas, and to comply with ammunition and explosives safety standards. This Notice gives the public an opportunity to comment on the withdrawal extension application and to request a public meeting. This Notice also amends PLO No. 7419's legal land description to reflect an amended land survey plat completed in 2016.

DATES: All persons who wish to submit comments, suggestions, objections, or request a public meeting in connection with the withdrawal extension application may do so in writing until February 19, 2019.

ADDRESSES: Comments on this withdrawal extension application and public meeting opportunity should be sent to the District Manager, Bureau of Land Management (BLM), Southern Nevada District Office, 4701 North Torrey Pines Drive, Las Vegas, NV 89130-2301.

FOR FURTHER INFORMATION CONTACT: Tom Seley, Project Manager, BLM Southern Nevada District Office, at email tseley@blm.gov or call 702-515-5293. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The DAF, Nellis AFB, has filed an application with the Department of the Interior to extend the duration of PLO No. 7419 for an additional 20-year term. The PLO withdrew approximately 2,252 acres of public lands from settlement, sale, location or entry under the general land laws, including the United States mining laws, but not from leasing under the mineral leasing laws, subject to valid existing rights. The purpose of the withdrawal is for military use at Nellis AFB to provide safety buffers from potentially hazardous areas, to protect populated areas, and to facilitate DAF compliance with the Department of Defense (DOD) Directive No. 6055.09E regarding ammunition and explosives safety standards. The safety buffer zone includes security patrol roads and a security checkpoint. PLO No. 7419 will expire on December 8, 2019, unless it is extended.

As required by Section 204(b)(1) of the Federal Land Policy and Management Act of 1976 (FLPMA), 43 U.S.C. 1714(b)(1), and BLM regulations at 43 CFR part 2300, the BLM is publishing Notice of the DAF, Nellis AFB Application.

This Notice amends the legal land description and acreage in PLO No. 7419, as noted on an amended plat accepted by the Nevada BLM Chief, Cadastral Survey on October 17, 2016. The lands withdrawn by PLO No. 7419 are described as follows:

Mount Diablo Meridian, Nevada

T. 19 S., R. 62 E.,

Sec. 25, lots 1 and 3, and S½NE¼;

Sec. 35, those portions of the SW¼NW¼, W½SE¼NW¼, and W½NW¼SE¼ as conveyed to the United States of America by Warranty Deed recorded October 19, 1999 in Book No. 991019, Instrument No. 00259, as Document No. 19991019.00259 in Clark County, Nevada.

T. 19 S., R. 63 E.,

Sec. 27, NE¼SE¼ and W½SE¼;

Sec. 34, NE¼.

T. 20 S., R. 62 E.,

Sec. 1, lots 9 and 10, and lots 13 thru 20;

Sec. 2, SE¼SW¼;

Sec. 10, E½SE¼;

Sec. 11, lots 1 thru 8, E½NW¼ and SW¼;

Sec. 12, lots 2 thru 7, and lots 12 and 13;

Sec. 15, NW¼NE¼ and W½SW¼NE¼.

T. 20 S., R. 63 E., unsurveyed,

Sec. 3, SE¼.

The areas described contain approximately 2,125.90 acres in Clark County.

The use of a right-of-way, interagency agreement, or cooperative agreement would not apply or provide adequate protection for safety buffers from potentially hazardous areas, protect populated areas, or comply with DOD Directive No. 6055.09E regarding ammunition and explosive safety standards.

No water rights would be required to fulfill the purpose of the requested withdrawal extension.

There are no suitable alternative sites since the lands described are contained within Nellis AFB.

For a period until February 19, 2019, all persons who wish to submit comments, suggestions, or objections in connection with the withdrawal extension application may present their views in writing to the BLM District Manager at the address in the ADDRESSES section. Comments, including names and street addresses of respondents, will be available for public review at the BLM Southern Nevada District Office, during regular business hours, 8:00 a.m. to 4:30 p.m. Monday through Friday, except Federal holidays.

Before including your address, phone number, email address, or other personal identifying information in your comment, you should be aware that your entire comment, including your personal identifying information, may be made publicly available at any time. While you can ask to withhold your personal identifying information from public review, we cannot guarantee that we will be able to do so.

Notice is hereby given that an opportunity for a public meeting may be afforded in connection with the proposed withdrawal extension. All interested persons who desire a public meeting for the purpose of being heard on the withdrawal extension application must submit a written request to the BLM District Manager, Southern Nevada District Office at the address in the ADDRESSES section, by February 19, 2019. If the authorized officer determines that a public meeting will be held, a notice of the date, time, and place will be published in the Federal Register, local newspapers, and posted on the BLM website at: https://www.blm.gov/media/press-releases at least 30 days before the scheduled date of the meeting.

The withdrawal extension application will be processed in accordance with the regulations set forth in 43 CFR 2310.4.

Brian C. Amme,
Acting Nevada State Director.

[FR Doc. 2018-25163 Filed 11-16-18; 8:45 am]

BILLING CODE 4310-HC-P